SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA) (44 U.S.C. Chapter 35), which requires agencies to submit proposed reporting and recordkeeping requirements to OMB for review and approval, and to publish a notice in the Federal Register notifying the public that the agency has made such a submission. This notice also allows an additional 30 days for public comments.

DATES: Submit comments on or before March 6, 2014.

ADDRESSES: Comments should refer to the information collection by name and/or OMB Control Number and should be sent to: Agency Clearance Officer, Curtis Rich, Small Business Administration, 409 3rd Street SW., 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov

Copies: A copy of the Form OMB 83-1, supporting statement, and other documents submitted to OMB for review may be obtained from the Agency Clearance Officer.

SUPPLEMENTARY INFORMATION: SBA recently updated the Standard Operating Procedures (SOP) that governs the Agency's primary loan programs. As a result of this update, various lender and loan applicant forms were eliminated and the information consolidated with other forms. Specifically, with respect to this information collection, SBA is eliminating Form 2301 Parts A, B, C and D and retaining Part E, Community Advantage Lender Participation Application only which will be referred to as simply Form 2301, Community Advantage Lender Participation Application SBA is also eliminating Form 7 from this collection. The information previously collected by the eliminated forms has been consolidated with SBA Form 1919 and SBA Form 1920 (OMB Control No. 3245-0348) for use by lenders and applicants in the Lender Advantage program.

Estimated Annual Respondents: 25.

Estimated Annual Responses: 25.

Estimated Annual Hour Burden: 175.

Title: Community Advantage Lender Participation Application Description of Respondents: SBA Lender Participants.

Form Number: 2301E.

Curtis B. Rich,
Management Analyst.

[FR Doc. 2014-01997 Filed 2-3-14; 8:45 am]

BILLING CODE 8025-01-M